DEPARTMENT OF COMMERCE

International Trade Administration

North American Free Trade Agreement (NAFTA), Article 1904 Binational Panel Reviews: Notice of Termination of Panel Review

AGENCY: NAFTA Secretariat, United States Section, International Trade Administration, Department of Commerce.

ACTION: Notice of Termination of Panel Review of the final antidumping duty administrative review of the dumping order made by the International Trade Administration, respecting Gray Portland Cement and Clinker from Mexico, 13th Administrative Review (Secretariat File No. USA-MEX-2004-1904-03).

SUMMARY: Pursuant to the negotiated settlement between the United States and Mexican industries, the panel review of the above noted case is terminated as of April 3, 2006. No panel has been appointed to this panel review.

FOR FURTHER INFORMATION CONTACT: Caratina L. Alston, United States Secretary, NAFTA Secretariat, Suite 2061, 14th and Constitution Avenue, Washington DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter was requested pursuant to these Rules and terminated in accordance with the settlement agreement.

Dated: April 3, 2006.
Caratina L. Alston,
United States Secretary, NAFTA Secretariat.

[FR Doc. E6-5070 Filed 4-6-06; 8:45 am]

BILLING CODE 3510-GT-P